DEPARTMENT OF COMMERCE

International Trade Administration

Notice of Scope Rulings

AGENCY: Import Administration, International Trade Administration, Department of Commerce.

DATES: Effective Date: February 8, 2013.

SUMMARY: The Department of Commerce (“Department”) hereby publishes a list of scope rulings and anticircumvention determinations made between July 1, 2012, and September 30, 2012. We intend to publish future lists after the close of the next calendar quarter.

FOR FURTHER INFORMATION CONTACT: Jamie Blair-Walker, AD/CVD Operations, China/NME Group, Import Administration, International Trade Administration, U.S. Department of Commerce, 14th Street and Constitution Avenue NW., Washington, DC 20230; telephone: 202-482-2615.

SUPPLEMENTARY INFORMATION:

Background

The Department's regulations provide that the Secretary will publish in the Federal Register a list of scope rulings on a quarterly basis.¹ Our most recent notification of scope rulings was published on August 29, 2012.² This current notice covers all scope rulings and anticircumvention determinations made by Import Administration between July 1, 2012, and September 30, 2012, inclusive. As described below, subsequent lists will follow after the close of each calendar quarter.

¹ See 19 CFR 351.225(o).

² See Notice of Scope Rulings, 77 FR 52313 (August 29, 2012).

Scope Rulings Made Between July 1, 2012, and September 30, 2012

People's Republic of China

A-570-504: Petroleum Wax Candles From the People's Republic of China

Requestor: FashionCraft-Excello, Inc.; six animal figurine candles are not within the scope of the antidumping duty order; August 14, 2012.

A-570-836: Glycine From the People's Republic of China

Requestor: GEO Specialty Chemicals, Inc. and Chattem Chemicals, Inc.; People's Republic of China-origin technical or crude glycine further processed in India is within the scope of the antidumping duty order; preliminary ruling September 13, 2012.

A-570-868: Folding Metal Tables and Chairs From the People's Republic of China

Requestor: Lifetime Products, Inc.; its 34-inch square fold-in-half tables with model number 80243 and 37-inch square fold-in-half tables with model numbers 80100 and 280011 are not within the scope of the antidumping duty order; July 3, 2012.

A-570-886 Polyethylene Retail Carrier Bags From the People's Republic of China

Requestor: Bunzl Distribution USA, Inc.; its ice bag is not within the scope of the antidumping duty order; July 6, 2012.

A-570-899: Certain Artist Canvas From the People's Republic of China

Requestor: Ningbo Conda Imp & Exp Company Ltd.; artist canvases woven and primed in India, which are subsequently cut, stretched, framed, and packaged in the PRC before exportation to the United States are not within the antidumping duty order; July 6, 2012.

A-570-910/C-570-911: Circular Welded Carbon Quality Steel Pipe From the People's Republic of China

Requestor: LDA Incopordo; electrical rigid metal steel conduits are not within the scope of the antidumping and countervailing duty orders; July 2, 2012.

A-570-912/C-50-913: Certain New Pneumatic Off-the-Road Tires From the People's Republic of China

Requestor: Igloo Products Corp. (“Igloo”); Igloo's new pneumatic tires with an overall 5-inch rim diameter are not within the scope of the antidumping and countervailing duty orders; September 24, 2012.

A-570-918: Steel Wire Garment Hangers From The People's Republic of China

Requestor: PetEdge Inc.; steel wire Canine Pet Fashion Hangers, with dog-shaped, rubber tipped hooks, are not within the scope of the antidumping duty order; August 2, 2012.

A-570-967/C-570-968: Aluminum Extrusions From the People's Republic of China

Requestor: A.O. Smith Corporation; water heater anodes are not within the scope of the antidumping and countervailing duty orders; preliminary ruling July 2, 2012.

A-570-967/C-570-968: Aluminum Extrusions From the People's Republic of China

Requestor: UQM Technologies Inc.; inner and outer motor cases are within the scope of the antidumping and countervailing duty orders; July 6, 2012.

A-570-967/C-570-968: Aluminum Extrusions From the People's Republic of China

Requestor: Electrolux North America, Inc., Electrolux Home Products, Inc. and Electrolux Major Appliances; certain fin evaporator systems (“FESs”) are within the scope of the antidumping and countervailing duty orders; July 13, 2012.

A-570-967/C-570-968: Aluminum Extrusions From the People's Republic of China

Requestor: J.A. Hancock Co., Inc.; Two specific models of unassembled geodesic structure kits (the 11.5-foot radius dome and the 8-foot radius dome) are within the scope of the antidumping and countervailing duty orders; July 17, 2012.

A-570-967/C-570-968: Aluminum Extrusions From the People's Republic of China

Requestor: Ameristar Fence Products; its kitted fence products are within the scope of the antidumping and countervailing duty orders; August 15, 2012.

A-570-967/C-570-968: Aluminum Extrusions From the People's Republic of China

Requestor: (Construction Specialties Inc.); certain Solarmotion controllable sunshades are not within the scope of the antidumping and countervailing duty orders; August 17, 2012.

A-570-967/C-570-968: Aluminum Extrusions From the People's Republic of China

Requestor: Sinobec Resources LLS; certain aluminum rails for showers and carpets are not within the scope of the antidumping and countervailing duty orders; September 6, 2012.

A-570-967/C-570-968: Aluminum Extrusions From the People's Republic of China

Requestor: Innovative Controls Inc.; certain side mount valve controls are not within the scope of the antidumping and countervailing duty orders; preliminary ruling September 24, 2012.

A-570-970/C-570-971: Multilayered Wood Flooring From the People's Republic of China

Requestor: Zhejiang Lingge; its 0.3 mm product, 1 mm product, and unfinished 1 mm product are not within the scope of the antidumping and countervailing duty orders; July 2, 2012.

Taiwan

A-583-843: Polyethylene Retail Carrier Bags From Taiwan

Requestor: SmileMakers, Inc.; its specialty patient bags are within the scope of the antidumping duty order; July 16, 2012.

Multiple Countries

A-201-837/A-570-954/C-570-955: Certain Magnesia Carbon Bricks From Mexico and the People's Republic of China

Requestor: Fedmet Resources Corporation; its imported magnesia carbon bricks with added alumina are within the scope of the antidumping and countervailing duty orders; July 2, 2012.

A-201-837/A-570-954/C-570-955: Certain Magnesia Carbon Bricks From Mexico and the People's Republic of China

Requestor: Ceramark Technology Inc.; its burned magnesite bricks and burned magnesia dolomite bricks are not within the scope of the antidumping and countervailing duty orders; July 26, 2012.

A-560-823/C-560-824/A-570-958/C-570-959: Coated Paper Suitable for High-Quality Print Graphics Using Sheet-Fed Presses From Indonesia and the People's Republic of China

Requestor: Gold East Paper (Jiangsu) Co. Ltd. (including its subsidiaries Ningbo Zhonghua Paper Co., Ltd. and Ningbo Asia Pulp and Paper Co., Ltd.), Global Paper Solutions, Inc., Pindo Deli Pulp and Paper Mills, PT. Indah Kiat Pulp & Paper Tbk, and Paper Max, Ltd. (collectively “APP”); (1) APP's Ningbo Fold packaging paperboard, APP's Savvi Coat packaging paperboard, APP's Zenith packaging paperboard with a basis weight of 215 grams per square meter (“gsm”), APP's Sinar Vanda packaging paperboard with a basis weight of 210 gsm, and APP's blue-, grey-, and black-center playing card board which APP exports are within the scope of the antidumping duty and countervailing duty orders; (2) APP's Zenith packaging paperboard (except with a basis weight of 215 gsm) and APP's Sinar Vanda packaging paperboard (except with a basis weight of 210 gsm) which APP exports are not within the scope of the antidumping duty and countervailing duty orders; September 13, 2012.

A-570-922, C-570-923, A-583-842: Raw Flexible Magnets From the People's Republic of China and Taiwan

Requestor: Accoutrements LLC; its mustache magnet is not within the scope of the antidumping duty order; August 7, 2012.

Anticircumvention Determinations Made Between July 1, 2012, and September 30, 2012

Mexico

A-201-830: Carbon and Certain Alloy Steel Wire Rod From Mexico

Requestor: ArcelorMittal USA LLC, Gerdau Ameristeel U.S. Inc, Rocky Mountain Steel, Members of the Wire Rod Producers Coalition and Nucor Corporation (Nucor); shipments of certain alloy steel wire rod with an actual diameter of 4.75 mm to 5.00 mm produced in Mexico and exported to the United States by Deacero S.A. de C.V. are circumventing the antidumping order; September 24, 2012.

People's Republic of China

A-570-863: Honey From the People's Republic of China

Requestor: The American Honey Producers Association and the Sioux Honey Association; blends of honey and rice syrup, regardless of the percentage of honey they contain, are later-developed merchandise that are within the scope of the antidumping duty order; August 21, 2012.

A-570-929: Small Diameter Graphite Electrodes From the People's Republic of China

Requestor: SGL Carbon LLC and Superior Graphite Co.; certain small diameter graphite electrodes (“SDGE”) finished by UK Carbon and Graphite Co., Ltd from PRC-produced artificial graphite rod/unfinished SDGE component inputs are circumventing the antidumping duty order; July 31, 2012.

Russian Federation

A-821-807: Ferrovanadium and Nitrided Vanadium From the Russian Federation

Requestor: AMG Vanadium; Russian vanadium pentoxide imported by the Evraz Group and toll-converted into ferrovanadium in the United States by Bear Metallurgical Corporation prior to sale to unaffiliated customers in the United States is not circumventing the antidumping order; July 30, 2012.

Interested parties are invited to comment on the completeness of this list of completed scope and anticircumvention inquiries. Any comments should be submitted to the Deputy Assistant Secretary for AD/CVD Operations, Import Administration, International Trade Administration, 14th Street and Constitution Avenue NW., APO/Dockets Unit, Room 1870, Washington, DC 20230.

This notice is published in accordance with 19 CFR 351.225(o).

Dated: January 8, 2013.
Christian Marsh,
Deputy Assistant Secretary for Antidumping and Countervailing Duty Operations .

[FR Doc. 2013-02904 Filed 2-7-13; 8:45 am]

BILLING CODE 3510-DS-P